DEPARTMENT OF ENERGY

Bonneville Power Administration

Electrical Interconnection of the Satsop Combustion Turbine Project

AGENCY: Bonneville Power Administration (BPA), Department of Energy (DOE).

ACTION: Notice of availability of Record of Decision (ROD).

SUMMARY: This notice announces the availability of the ROD to offer contract terms to integrate power from the Satsop Combustion Turbine Project, a 650-megawatt gas-fired, combined-cycle, combustion turbine power generation project, into the Federal Columbia River Transmission System (FCRTS). The project is located in Satsop, in the Satsop Development Park, in Grays Harbor County, Washington. This decision was reached after consideration of the site-specific potential environmental impacts analyzed in BPA's Resource Contingency Program Environmental Impact Statement (RCP EIS, DOE/EIS-0230, November 1995), and is consistent with BPA's Business Plan EIS (BP EIS, DOE/EIS-0183, June 1995), and Business Plan ROD (August 1995).

ADDRESSES: Copies of the ROD for the Electrical Interconnection of the Satsop Combustion Turbine Project may be obtained by calling BPA's toll-free document request line: 1-800-622-4520. The RCP EIS, BP EIS, and BP ROD are also available.

FOR FURTHER INFORMATION CONTACT: Dawn R. Boorse, Bonneville Power Administration—KEC-4, P.O. Box 3621, Portland, Oregon, 97208-3621, direct telephone 503-230-5678; toll-free telephone 1-800-282-3713; e-mail drboorse@bpa.gov.

Issued in Portland, Oregon, on April 30, 2002.
Steven G. Hickok,
Acting Administrator and Chief Executive Officer.

[FR Doc. 02-11397 Filed 5-7-02; 8:45 am]

BILLING CODE 6450-01-P